DEPARTMENT OF ENERGY

Office of Energy Efficiency and Renewable Energy

10 CFR Part 430

[Docket No. EE-PS-2006-001]

Energy Conservation Program for Consumer Products and Commercial and Industrial Equipment

AGENCY: Office of Energy Efficiency and Renewable Energy, Department of Energy.

ACTION: Notice of public meeting and availability.

SUMMARY: The Department of Energy (DOE or Department) Building Technologies Program will hold a public meeting to discuss appliance standards scheduling issues. The Department is interested in receiving comments on the Department's desire to bring all appliance rulemaking activities into compliance with the applicable statutory requirements. The Department will finalize its standards scheduling plan after consideration of comments received during and following the public meeting.

DATES: The Department will hold a public meeting on Tuesday, November 15, 2005, from 9 a.m. to 4 p.m. Please submit written comments by Thursday, December 15, 2005.

ADDRESSES: The meeting will be held at the Holiday Inn Capitol, 550 C Street, SW., Washington, DC 20024.

The DOE Web site at http://www.eere.energy.gov/buildings/appliance_standards/2006_schedule_setting contains background information, including: The list of rulemaking activities; summary data sheets for affected products; analysis spreadsheets; and other information.

The Department welcomes your participation at the meeting as well as written comments. Written comments, data, and information regarding scheduling issues will be accepted no later than the date provided in the DATES section.

You may submit comments, identified for the 2006 Appliance Standards Schedule Setting, by any of the following methods:

• Federal eRulemaking Portal: http://www.regulations.gov. Follow the instructions for submitting comments.

• E-mail: schedulesetting2006@ee.doe.gov. Include 2006 Appliance Standards Schedule Setting in the subject line of the message.

• Mail: Ms. Brenda Edwards-Jones, U.S. Department of Energy, Building Technologies Program, Mailstop EE-2J, 2006 Appliance Standards Schedule Setting, 1000 Independence Avenue, SW., Washington, DC 20585-0121. Telephone: (202) 586-2945. Please submit one signed original.

• Hand delivery/Courier: Ms. Brenda Edwards-Jones, U.S. Department of Energy, Building Technologies Program, Mailstop EE-2J, 2006 Appliance Standards Schedule Setting, 1000 Independence Avenue, SW., Washington, DC 20585-0121.

Instructions: All submissions received must include the agency name and reference the 2006 Appliance Standards Schedule Setting. Submit electronic comments in WordPerfect, Microsoft Word, PDF, or text (ASCII) format file; avoid the use of special characters or any form of encryption; and, wherever possible, include the electronic signature of the author. If you don't include an electronic signature, you must authenticate comments by thereafter submitting the signed original paper document. No telefacsimiles (telefaxes) will be accepted.

Docket: For access to the docket to read background documents or comments received, go to the U.S. Department of Energy, Forrestal Building, Room 1J-018 Resources Room of the Building Technologies Program), 1000 Independence Avenue, SW., Washington, DC, (202) 586-9127, between 9 a.m. and 4 p.m., Monday through Friday, except Federal holidays. Please call Ms. Brenda Edwards-Jones at the above telephone number for additional information regarding visiting the Resource Room.

FOR FURTHER INFORMATION CONTACT: Linda Graves, Esq., U.S. Department of Energy, Office of Energy Efficiency and Renewable Energy, EE-2J, 1000 Independence Avenue, SW., Washington, DC 20585-0121, (202) 586-1851, e-mail: Linda.Graves@ee.doe.gov, or Francine Pinto, Esq., or Thomas DePriest, Esq., U.S. Department of Energy, Office of General Counsel, GC-72, 1000 Independence Avenue, SW., Washington, DC 20585, (202) 586-9507, e-mail: Francine.Pinto@hq.doe.gov, or Thomas.DePriest@hq.doe.gov, respectively.

SUPPLEMENTARY INFORMATION: The Department invites your participation in a public meeting to address how the Department will develop and implement a full compliance scheduling plan for appliance standards rulemaking activities. The Department particularly welcomes your perspective and assistance with respect to scheduling activities, given the enormous, competing demands on its resources.

The meeting will be conducted in an informal, conference style. There will not be any discussion of proprietary information, costs or prices, market shares, or other commercial matters regulated by the U.S. antitrust laws.

After the meeting and expiration of the period for submitting written statements, the Department will consider the comments received.

If you would like to participate in the meeting or be added to the DOE mailing list to receive future notices and information regarding the energy conservation program for consumer products and commercial and industrial equipment, please contact Ms. Brenda Edwards-Jones at (202) 586-2945.

Issued in Washington, DC, on October 19, 2005.
Douglas L. Faulkner,
Acting Assistant Secretary, Energy Efficiency and Renewable Energy.

[FR Doc. 05-21248 Filed 10-20-05; 9:07 am]

BILLING CODE 6450-01-P